DEPARTMENT OF TRANSPORTATION

Federal Highway Administration

Environmental Impact Statement: Pellissippi Parkway Extension (State Route 162), Blount County, TN

AGENCY: Federal Highway Administration (FHWA), DOT.

ACTION: Notice of Intent.

SUMMARY: The Federal Highway Administration (FHWA) is issuing this notice to advise the public that an Environmental Impact Statement (EIS) will be prepared for a proposed highway project in Blount County, Tennessee.

FOR FURTHER INFORMATION CONTACT: Ms. Karen M. Brunelle, Planning and Program Management Team Leader, Federal Highway Administration—Tennessee Division Office, 640 Grassmere Park Road, Suite 112, Nashville, TN 37211, 615-781-5772.

SUPPLEMENTARY INFORMATION: The proposed project would construct an extension of Pellissippi Parkway (State Route 162) from State Route 33 to U.S. 321 (State Route 73) in Blount County, Tennessee, a distance of approximately 4.4 miles. The extension of Pellissippi Parkway is considered necessary to improve regional and local accessibility for the general public as well as emergency vehicles, to improve traffic capacity on the existing roadway system, to provide system linkage, and to improve safety conditions on U.S. 129 (State Route 115) and U.S. 321.

Alternatives under consideration include: (1) No-Build; (2) Transportation System Management (TSM) activities; (3) upgrade existing roadways; (4) Mass Transit; and (5) one or more alternatives that would construct a new roadway on a new location.

Two public scoping meetings will be held in the project corridor. As part of the scoping process, Federal, state, and local agencies and officials; private organizations; citizens; and interest groups will have an opportunity to provide input into the development of the Environmental Impact Statement and identify issues of concern. A Public Involvement Plan has been developed to include the public in the project development process. This plan proposes utilizing the following outreach efforts to provide information and solicit input: newsletters, the Internet, e-mail and direct mail, informal meetings and briefings, public information meetings, public hearings and other efforts as necessary and appropriate. A public hearing will be held upon completion of the Draft Environmental Impact Statement and public notice will be given of the time and place of the hearing. The Draft EIS will be available for public and agency review and comment prior to the public hearings.

To ensure that the full range of issues related to this proposed action are identified and taken into account, comments and suggestions are invited from all interested parties. Comments and questions concerning the proposed action should be directed to the FHWA contact person identified above at the address provided above.

(Catalog of Federal Domestic Assistance Program Number 20.205, Highway Planning and Construction. The regulations implementing Executive Order 12372 regarding intergovernmental consultation on Federal programs and activities apply to this proposed program.).

Issued on: April 19, 2006.
Karen M. Brunelle,
Planning and Program Mgmt. Team Leader, Nashville, TN.

[FR Doc. E6-6141 Filed 4-24-06; 8:45 am]

BILLING CODE 4910-22-P